Proclamation 7409 of February 26, 2001

Irish-American Heritage Month, 2001

By the President of the United States of America

A Proclamation

Beginning from the earliest years of settlement, millions of Ireland's people have emigrated to America's shores. This immigration reached a particular peak during the terrible years of the Great Famine more than 150 years ago. Irish immigrants, from professionals to laborers, made an enormous contribution to the building of our Nation.

The Irish who came to America endured many hardships but have prevailed to play vital roles in every chapter of our country's history. Nine of the signers of the Declaration of Independence were of Irish origin, and 19 Presidents of the United States have proudly claimed Irish heritage—including George Washington, Andrew Jackson, John F. Kennedy, and Ronald Reagan. Irish Americans have served with distinction in every war this Nation has fought, from Revolutionaries John Barry and Stephen Moylan to General Douglas MacArthur. Other influential and renowned figures of Irish descent include pioneers Buffalo Bill Cody, Daniel Boone, and Davy Crockett; authors Flannery O'Connor, Eugene O'Neill, and John O'Hara; Civil War photographer Matthew Brady; and entertainers Jackie Gleason, Gene Kelly, and John Wayne. These distinguished Americans represent only a small sampling of the men and women whose legacy has forever changed our national identity and who trace their ancestry to Ireland's green shores.

Today, the more than 44 million Americans who claim Irish heritage look back with pride on the achievements and contributions of their forebears. Irish Americans have distinguished themselves in every sector of American life. We are all enriched, strengthened, and blessed by their service to our country.

NOW, THEREFORE, I, GEORGE W. BUSH, President of the United States of America, by virtue of the authority vested in me by the Constitution and laws of the United States, do hereby proclaim March 2001 as Irish-American Heritage Month. I call upon all the people of the United States to observe this month with appropriate ceremonies and activities.

IN WITNESS WHEREOF, I have hereunto set my hand this twenty-sixth day of February, in the year of our Lord two thousand one, and of the Independence of the United States of America the two hundred and twenty-fifth.

B

[FR Doc. 01-5190

Filed 2-28-01; 8:45 am]

Billing code 3195-01-P